SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections and a new information collection.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer to the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than October 25, 2010. Individuals can obtain copies of the collection instruments by calling the SSA Reports Clearance Officer at 410-965-8783 or by writing to the above e-mail address.

1. Statement of Agricultural Employer (Year Prior to 1988; and 1988 and later)—20 CFR 404.702, 404.802, 404.1056—0960-0036. SSA collects the information on Forms SSA-1002-F3 and SSA-1003-F3 to resolve discrepancies when farm workers allege their employers did not report their wages, or reported their wages incorrectly. If an agricultural employer incorrectly reported wages, or failed to report any wages for an employee, SSA must attempt to correct its records by contacting the employer to obtain convincing evidence of the wages paid. The respondents are agricultural employers having knowledge of wages paid to agricultural employees.

Type of Request: Revision of an OMB-approved information collection.

Form No. | Number of respondents | Frequency of response | Average Burden per Response (minutes) | Total Annual Burden (hours)
SSA-1002 | 7,500 | 1 | 30 | 3,750
SSA-1003 | 25,000 | 1 | 30 | 12,500
Total | 32,500 |  |  | 16,250

2. Student Reporting Form—20 CFR 404.367 & 404.368—0960-0088. Sections 20 CFR 404.367 and 404.368 of the Code of Federal Regulations provide that a student beneficiary must attend an educational institution full-time to qualify for Social Security benefits. SSA requires beneficiaries to report events that may cause a reduction, termination, or suspension of their benefits. SSA collects information on Form SSA-1383 to determine if the change or event a student reports affects continuing entitlement to Social Security benefits. We also use the information to determine the correct benefit amounts. The respondents are Social Security student beneficiaries.

Type of Request: Revision of an OMB-approved information collection.

Form No. | Number of respondents | Frequency of response | Average burden per response (minutes) | Total annual burden (hours)
SSA-1383 | 74,887 | 1 | 6 | 7489
SSA-1383-FC | 113 | 1 | 6 | 11
Total | 75,000 |  | 6 | 7,500

3. Work Activity Report (Self-Employed Person)—20 CFR 404.1520(b), 20 CFR 404.1571-404.1576, 20 CFR 404.1584-404.1593, and 20 CFR 416.971-416.976—0960-0598. SSA uses the information on Form SSA-820-U4 to determine initial or continuing eligibility for Supplemental Security Income (SSI) payments or Social Security disability benefits. Under Titles II and XVI of the Social Security Act, applicants for disability benefits and SSI payments must prove they cannot perform any kind of substantial gainful activity (SGA) generally available in the national economy for which we expect them to qualify based on age, education, and work experience. SSA needs information about this work to determine whether the applicant was (or is) engaging in SGA. Working, after a claimant becomes entitled, can cause SSA to discontinue disability benefits or SSI payments. Using information from Form SSA-820-U4, SSA can determine if we should stop the respondent's benefits or payments. The respondents are applicants and claimants for SSI or Social Security disability benefits.

Type of Request: Extension of an OMB-approved information collection.

Number of Respondents: 100,000.

Frequency of Response: 1.

Average Burden per Response: 30 minutes.

Estimated Annual Burden: 50,000 hours.

4. Request for Waiver of Special Veterans Benefits (SVB) Overpayment Recovery or Change in Repayment Rate—20 CFR 408.900-408.950, 408.923(b), 408.931(b), 408.932(c), (d) and (e), 408.941(b) and 408.942—0960-0698. Title VIII of the Social Security Act (the Act) allows SSA to pay a monthly benefit to a qualified World War II veteran who resides outside the United States. When an overpayment in SVB occurs, the beneficiary can request a waiver of recovery of the overpayment or a change in the repayment rate. SSA uses the SSA-2032-BK to obtain the information necessary to establish whether the claimant met the waiver of recovery provisions of the overpayment, and to determine the repayment rate if we do not waive repayment. Respondents are beneficiaries who have overpayments on their Title VIII record and wish to file a claim for waiver of recovery or change in repayment rate.

Type of Request: Revision of an OMB-approved information collection.

Number of Respondents: 450.

Frequency of Response: 1.

Average Burden per Response: 120 minutes.

Total Annual Burden: 900 hours.

5. Protection and Advocacy for Beneficiaries of Social Security (PABSS)—Grant Awardees/Protection and Advocacy for Beneficiaries of Social Security (PABSS)—Beneficiaries—20 CFR 435.51-435.52—0960-0768. In August of 2004, SSA announced its intention to award grants to establish community-based protection and advocacy projects in every State and U.S. Territory, as authorized under section 1150 of the Social Security Act. Potential awardees were protection and advocacy organizations established under Title I of the Developmental Disabilities Assistance and Bill of Rights Act, which submitted a timely application conforming to the requirements listed in the 2004 announcement. The projects SSA funds under PABSS program are part of SSA's strategy to increase the number of beneficiaries who return to work and achieve self-sufficiency as the result of receiving advocacy or other services. The overall goal of the program is to provide information and advice about obtaining vocational rehabilitation and employment services, and to provide advocacy or other services a beneficiary with a disability may need to secure, maintain, or regain gainful employment.

The PABSS Semi-Annual Program Performance Report collects statistical information from the various protection and advocacy (P&A) projects to manage program performance. SSA uses the information to evaluate the efficacy of the program, and to ensure beneficiaries are receiving the dollars appropriated for PABSS services. The project data is valuable to SSA in its analysis of, and future planning for, the Social Security Disability Insurance (SSDI) and SSI programs. The respondents are the 57 designated P&A project system sites (in each of the 50 States, the District of Columbia, and the U.S. Territories), and beneficiaries of SSDI and SSI programs.

Type of Request: Revision of an OMB-approved information collection.

Type of respondent | Number of respondents | Frequency of response | Number of annual responses | Average burden per response (minutes) | Total annual burden (hours)
PABBS Program Grantees | 57 | 2 | 114 | 60 | 114
Beneficiaries | 5,000 | 1 | 5,000 | 15 | 1,250
Totals | 5,057 |  | 5,114 |  | 1,364

II. SSA has submitted the information collections listed below to OMB for clearance. Your comments on the information collections would be most useful if OMB and SSA receive them within 30 days from the date of this publication. To be sure we consider your comments, we must receive them no later than September 27, 2010. You can obtain a copy of the OMB clearance packages by calling the SSA Reports Clearance Officer at 410-965-8783 or by writing to the above e-mail address.

1. Travel Expense Reimbursement—20CFR 404.999(d) and 416.1499—0960-0434. The Social Security Act provides for travel expense reimbursement by Federal and State agencies for claimant travel incidental to medical examinations, and to parties, their representatives, and all reasonably necessary witnesses for travel exceeding 75 miles to attend medical examinations, reconsideration interviews, and proceedings before an administrative law judge (ALJ). Reimbursement procedures require the claimant to provide (1) a list of expenses incurred, and (2) receipts of such expenses. Federal and State personnel review the listings and receipts to verify the reimbursable amount to the requestor. The respondents are claimants for Title II benefits and Title XVI payments, their representatives, and witnesses.

Type of Request: Extension of an OMB-approved information collection.

Number of Respondents: 50,000.

Frequency of Response: 1.

Average Burden per Response: 10 minutes.

Estimated Annual Burden: 8,333 hours.

2. Incorporation by Reference of Oral Findings of Fact and Rationale in Wholly Favorable Written Decisions (Bench Decision Regulation)—20 CFR 404.953 and 416.1453—0960-0694. If an ALJ makes a wholly favorable oral decision that includes all the findings and rationale for the decision for a claimant of Title II or Title XVI payments at an administrative appeals hearing, the records from the oral hearing preclude the need for a written decision. We call this the incorporation-by-reference process. In addition, the regulations for this process state if the involved parties want a record of the oral decision, they may submit a written request for these records. Therefore, SSA collects identifying information under the aegis of sections 20 CFR 404.953 and 416.1453 of the Code of Federal Regulations to determine how to send interested individuals written records of a favorable incorporation-by-reference oral decision made at an administrative review hearing. Since there is no prescribed form to request a written record of the decision, the involved parties send SSA their contact information and reference the hearing for which they would like a record. The respondents are applicants for SSDI and SSI payments, or their representatives, to whom SSA gave a wholly favorable oral decision under the regulations cited above.

Type of Request: Revision of an OMB-approved information collection.

Number of Respondents: 2,500.

Frequency of Response: 1.

Average Burden per Response: 5 minutes.

Estimated Annual Burden: 208 hours.

3. Authorization for SSA to Disclose Tax Information for Your Appeal of Your Medicare Part B Income-Related Monthly Adjustment Premium Amount—20 CFR 418.1350—0960-0762. Medicare Part B beneficiaries who wish to appeal SSA's reconsideration of their Income-Related Monthly Adjustment Amount (IRMAA) must ensure the availability of relevant Internal Revenue Service (IRS) income tax data to the Health and Human Services ALJ who will consider their appeal. Through Form SSA-54, SSA obtains beneficiary authorization to disclose the IRS beneficiary tax data to the ALJ. The respondents are Medicare Part B recipients who want to appeal SSA's reconsideration of their IRMAA amount.

Correction Notice: This is a correction notice. SSA published this information collection as an extension on June 7, 2010 at 75 FR 32231. Since we are revising the Privacy Act Statement, this is now a revision of an OMB-approved information collection.

Type of Request: Revision of an OMB-approved information collection.

Number of Respondents: 6,000.

Frequency of Response: 1.

Average Burden per Response: 15 minutes.

Estimated Annual Burden: 1,500 hours.

Dated: August 23, 2010,
Faye Lipsky,
Reports Clearance Officer, Center for Reports Clearance, Social Security Administration.

[FR Doc. 2010-21239 Filed 8-25-10; 8:45 am]

BILLING CODE 4191-02-P